DEPARTMENT OF THE INTERIOR

National Park Service

National Register of Historic Places; Notification of Pending Nominations and Related Actions

Nominations for the following properties being considered for listing or related actions in the National Register were received by the National Park Service before March 25, 2006. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW, 8th floor, Washington DC 20005; or by fax, 202-371-6447. Written or faxed comments should be submitted by April 19, 2006.

John W. Roberts,
Acting Chief, National Register/National Historic Landmarks Program.

ARIZONA

Maricopa County

Glendale High School Auditorium, 6216 W. Myrtle Ave., Glendale, 06000326

CALIFORNIA

Santa Clara County

Hotel Montgomery, 211 SW First St., San Jose, 06000328

COLORADO

Alamosa County

Mt. Pleasant School, (Rural School Buildings in Colorado MPS) Jct. of Cty Rd. 3 S and Rd. 103 S, Alamosa, 06000327

Denver County

Clayton, George W., Trust and College, 3801 Martin Luther King Blvd., Denver, 06000329

MISSOURI

Greene County

Springfield Public Square Historic District, (Springfield, Missouri MPS AD) 149, 138, 137, 134, 127, 132, 124, and 122 Park Central Sq., 219, 221, South Ave., Springfield, 06000331

St. Louis County

Burkhardt Historic District (Boundary Increase), 16626-16660 (Even numbered properties only) Chesterfield Airport Rd., Chesterfield, 06000330

Warren County

Fortmann, Herman H., Building, 207 Depot St., Marthasville, 06000332

MONTANA

Yellowstone County

Billings Townsite Historic District (Boundary Increase), 2600 (2528), 2604-2606, 2608, 2610-2614, and 2624 Montana Ave., Billings, 06000333

NEW YORK

Orange County

Bodine Farmhouse, 50 Wallkill Rd., Walden, 06000334

Westchester County

Catt, Carrie Chapman, House, 20 Ryder Rd., Briarcliff Manor, 06000336

Nelson Avenue—Fort Hill Historic District, Roughtly along Nelson Ave., John St., Diven St., Constant St., Orchard St., Pauling St., and Decatur Ave., Peekskill, 06000335

NORTH CAROLINA

Chowan County

Jones, Cullen and Elizabeth, House, 2732 Rocky Hock Rd., Edenton, 06000340

Franklin County

Rose Hill, W side of U.S. 401 S, 0.25 mi. N of NC 1110, Louisburg, 06000339

Wake County

Maiden Lane Historic District, 2-20 Maiden Ln., Raleigh, 06000338

TENNESSEE

Hawkins County

Moore Family Farm, 483 VFW Rd., Bulls Gap, 06000343

Williamson County

Harlinsdale Farm, (Historic Family Farms in Middle Tennessee MPS) 239 Franklin Rd., Franklin, 06000344

VIRGINIA

Arlington County

Westover Historic District, (Garden Apartments, Apartment Houses and Apartment Complexes in Arlington County, Virginia MPS) Bounded by McKinley Rd., N. Washington Blvd., N. 16th St., N. Jefferson St., N. 11th St. and N. Fairfax Dr., Arlington, 06000345

Caroline County

Auburn, 320 N. Main St., Bowling Green, 06000342

Fairfax County

Tower House, 9066 Tower House Place, Alexandria, 06000341

Frederick County

Fort Collier, One mile N of Winchester on VA 11, Winchester, 06000356

Giles County

Shannon Cemetery, Jct. of VA 42 and 100, Pearisburg, 06000350

King George County

Bunche, Ralph, High School, 10139 James Madison Hwy., King George, 06000353

Loudoun County

Paeonian Springs Historic District, Area inc. parts of Berry Bramble Ln., Catoctin Ridge St., Charles Town Pike, Highland Circle, and Simpson Circle, Paeonian Springs, 06000352

Nelson County

Edgewood, 3008 Warminster Rd., Wingina, 06000354

Mitchell's Brick House Tavern, 5365 Thomas Nelson Hwy., Arrington, 06000355

Richmond Independent City

Fraternal Order of Eagles Building, 220 E. Marshall St., Richmond (Independent City), 06000346

Hebrew Cemetery, 400 Hospital St., Richmond (Independent City), 06000348

Lock Lane Apartments,

12-58 West Lock Ln., 11-19 and 27-57 East Lock Ln., and 4701 Grove Ave., Richmond (Independent City), 06000347

Richmond and Chesapeake Bay Railway Car Barn, 1620 Brook Rd., Richmond (Independent City), 06000349

Rockbridge County

Glasgow Historic District (Boundary Increase), 900 Blks of Fizlee St. and Rockbridge Rd., Glasgow, 06000351

Salem Independent City

Preston House (Boundary Increase and Decrease), 1936 W. Main St., Salem (Independent City), 06000357

A request for a move has been made for the following resource:

ARKANSAS

Jefferson County

Boone-Murphy House 714 W. 4th Ave., Pine Bluff, 79000442

A request for removal have been made for the following resources:

ARIZONA

Maricopa County

Green, Mary and Moses, House (Tempe MRA), W of Carver St., Tempe, 85000406

Miller Block (Tempe MRA) 417-422 Mill Ave., Tempe, 84000727

Miranda, Jesus, Homestead (Tempe MRA), 1992 E. University, Tempe, 84000729

Peterson Building, 409-413 S. Mill Ave, Tempe, 80000766

Rohrig School (Tempe MRA), 2328 E. University Dr., Tempe, 84000175

Tempe Cotton Exchange Cotton Gin Seed Storage Building (Tempe MRA), 215 W. 7th St., Tempe, 84000744

West End Hotel (Phoenix Commercial MRA), 701 W. Washington, Phoenix, 85002897

To assist in the preservation of the following resource the 15-day comment period has been waived:

KENTUCKY

Jefferson County

Stephen Foster Elementary School, 4020 Garland Ave., Louisville, 06000337

[FR Doc. E6-4851 Filed 4-3-06; 8:45 am]

BILLING CODE 4312-51-P